Title 3—

The President

Memorandum of April 17, 2003

Authority to Hold Harmless and Indemnify in Certain

Circumstances Under One Contract

Memorandum for the Administrator of the United States Agency for International Development

1. You are authorized for the United States Agency for International Development (USAID) to exercise authority under Public Law 85-804, as amended (50 U.S.C. 1431 et seq.), to the same extent and subject to the same conditions and limitations as the head of a department or agency listed in section 21 of Executive Order 10789 of November 14, 1958, as amended, with respect to one contract identified in subparagraph (a) of this memorandum and solely for the purpose identified in subparagraph (b).

(a) The contract is for repair and reconstruction in Iraq and is awarded on or before September 30, 2003.

(b) The purpose is to hold harmless and indemnify with respect to claims, losses, or damage arising out of or resulting from exposure, in the course of performance of the contract to which subparagraph (a) refers, to:

(i) chemical, biological, radiological, or nuclear weapons, agents, or materials;

(ii) land or sea mines or similar explosive devices; or

(iii) unexploded ordnance.

2. The function performed by USAID in awarding the contract to which paragraph 1 refers is a function connected with the national defense. There are currently national emergencies that have been declared by the President in accordance with applicable law. I deem that the authorization provided by paragraph 1 and actions taken pursuant to that authorization would facilitate the national defense.

3. You are authorized and directed to publish this memorandum in the Federal Register.

B

THE WHITE HOUSE,

Washington, April 17, 2003.

[FR Doc. 03-9988

Filed 4-18-03; 10:33 am]

Billing code 6116-01-P